NATIONAL AERONAUTICS AND SPACE ADMINISTRATION

[Notice: (18-063)]

NASA Advisory Council; Technology, Innovation and Engineering Committee; Meeting

AGENCY: National Aeronautics and Space Administration.

ACTION: Notice of meeting.

SUMMARY: In accordance with the Federal Advisory Committee Act, as amended, the National Aeronautics and Space Administration (NASA) announces a meeting of the Technology, Innovation and Engineering Committee of the NASA Advisory Council (NAC). This Committee reports to the NAC.

DATES: Tuesday, August 28, 2018, 8:00 a.m.-5:00 p.m., PDT.

ADDRESSES: NASA Ames Research Center, NASA Ames Conference Center, Building 3, 500 Severyns Road, Mezzanine Room, Moffett Field, CA 94035.

FOR FURTHER INFORMATION CONTACT: Mr. Mike Green, Designated Federal Officer, Space Technology Mission Directorate, NASA Headquarters, Washington, DC 20546, (202) 358-4710, or g.m.green@nasa.gov.

SUPPLEMENTARY INFORMATION: The meeting will be open to the public up to the seating capacity of the room. This meeting is also available telephonically and by WebEx. You must use a touch-tone phone to participate in this meeting. Any interested person may dial the toll free access number 1-844-467-6272, passcode 102421, followed by the # sign to participate in the meeting by telephone. The WebEx link is https://nasa.webex.com/, the meeting number is 990 564 469, and the password is “N@CTIE0818” (case sensitive). NOTE: If dialing in, please “mute” your telephone. The agenda for the meeting includes the following topics:

—Space Technology Mission Directorate Update and Discussion

—Autonomous Systems Capability Overview

—Solar Electric Propulsion Update

—Office of the Chief Technologist Update

—Annual Ethics Training Briefing

—In-Space Robotic Manufacturing and Assembly Projects Update

—Center for the Utilization of Biological Engineering for Space (CUBES) Update

For NASA Ames Research Center visitor access, please go through the Main Gate and show a valid government-issued identification (i.e., driver's license, passport, etc.) to the security guard. Inform the security guard that you are attending a meeting in Building 3. Attendees will also be required to sign a register prior to entering the meeting room. It is imperative that the meeting be held on these dates to the scheduling priorities of the key participants.

Carol J. Hamilton,
Acting Advisory Committee Management Officer, National Aeronautics and Space Administration.

[FR Doc. 2018-16964 Filed 8-7-18; 8:45 am]

BILLING CODE 7510-13-P